DEPARTMENT OF HOMELAND SECURITY

Coast Guard

33 CFR Part 117

[Docket No. USCG-2011-1025]

Drawbridge Operation Regulation; Neuse River, New Bern, NC

AGENCY: Coast Guard, DHS.

ACTION: Notice of temporary deviation from regulations.

SUMMARY: The Commander, Fifth Coast Guard District, has issued a temporary deviation from the regulations governing the operation of the Neuse River Railroad Bridge across the Neuse River, mile 34.2, at New Bern, NC. The deviation restricts the operation of the draw span to facilitate repairs to the main mechanism of the bridge.

DATES: This deviation is effective from 9 a.m. on November 15, 2011 until 6 p.m. November 17, 2011.

ADDRESSES: Documents mentioned in this preamble as being available in the docket USCG-2011-1025 and are available online by going to http://www.regulations.gov, inserting USCG-2011-1025 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: Norfolk and Southern Railroad Corporation, who owns and operates the Neuse River Railroad Bridge, mile 34.2, at New Bern, NC, requested a temporary deviation from the current operating regulations to facilitate repairs to the main mechanism of the bridge.

Under the regular operating schedule, the swing bridge opens on signal as required by 33 CFR 117.5. In the closed position to vessels, the bridge has no available vertical clearance.

To facilitate repairs, the swing span will be closed to vessels requiring an opening from 9 a.m. on November 15, 2011 until and including 6 p.m. on November 17, 2011. There are no alternate routes for vessels transiting this section of the Neuse River.

The majority of the vessels that transit through this bridge during this time of year are recreational with intermittent tug and barge traffic.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: October 27, 2011.
Waverly W. Gregory, Jr.,
Bridge Program Manager, Fifth Coast Guard District.

[FR Doc. 2011-29012 Filed 11-8-11; 8:45 am]

BILLING CODE 9910-04-P